NUCLEAR REGULATORY COMMISSION

Risk-Informed Revisions to Technical Requirements of 10 CFR Part 50

AGENCY: Nuclear Regulatory Commission.

ACTION: Notice of public workshop.

SUMMARY: The Nuclear Regulatory Commission has instructed its staff to explore changes to specific technical requirements of 10 CFR part 50, to incorporate risk-informed attributes. The staff is studying the ensemble of technical requirements contained in 10 CFR part 50 (and its associated implementing documents, such as regulatory guides and standard review plan sections) to (1) identify individual or sets of requirements potentially meriting change; (2) prioritize which of these requirements (or sets of requirements) should be changed; and (3) develop the technical bases to an extent that is sufficient to demonstrate the feasibility of changing the requirements. This work will result in recommendations to the Commission on specific regulatory changes that should be pursued. Public participation in the development of these recommendations will be obtained via workshops, information on a web site, and other means.

SUPPLEMENTARY INFORMATION: This notice serves as notification of a public workshop to provide for the exchange of information with all stakeholders regarding the staff's efforts to risk-inform the technical requirements of 10 CFR part 50. The subject of the workshop will be to discuss the preliminary work being performed by the NRC staff on risk-informing the technical requirements of 10 CFR part 50. The meeting will focus on the overall framework of the risk-informing process, the criteria used to identify and prioritize candidate regulations and design basis accidents (DBAs), the results of the staff's initial efforts in risk-informing two trial implementation issues (i.e., 10 CFR 50.44 and special treatment rules), the preliminary results of the selection of additional candidate requirements and DBAs to be examined, and discussion of preliminary issues associated with the development and implementation of the entire process.

Initial documents covering some of the above topics will be available on the part 50 technical requirements web site between one and two weeks prior to the workshop and will be placed in the public document room. Each of these documents will contain a list of preliminary issues for discussion. The address for the Part 50 technical requirements web site is as follows: http://nrc-part50.sandia.gov This web site can also be accessed from the NRC web site (http://www.nrc.gov), by selecting “Nuclear Reactors,” and then “Risk-Informed Part 50 (Option 3).”

The part 50 technical requirements web site currently contains some pertinent background information, located under the “Related Sites” page (e.g., SECY-98-300, SECY-99-256 and SECY-99-264).

Workshop Meeting Information

The staff intends to conduct a workshop to provide for an exchange of information related to the risk-informed revisions to the technical requirements of 10 CFR part 50. Persons other than NRC staff and NRC contractors interested in making a presentation at the workshop should notify Alan Kuritzky, Office of Nuclear Regulatory Research, MS: T10-E50, U.S. Nuclear Regulatory Commission, Washington D.C. 20555-0001, (301) 415-6255, email: ask1@nrc.gov.

Date: February 24-25, 2000.

Agenda

Preliminary agenda is as follows (a final agenda will be available at the workshop):

Thursday, February 24, 2000 (8:00 a.m.-Noon)

NRC Presentations:

—Introduction (Background and Objectives)

—Framework for Risk-Informing Regulatory Requirements and DBAs

—Process and Criteria for Identifying and Prioritizing Candidate Regulations and DBAs

—Preliminary Results of Selection of Candidate Regulations and DBAs

—Trial Implementation of 10 CFR 50.44

—Trial Implementation of Special Treatment Requirements

—Future Activities

Thursday, February 24, 2000 (1:00 p.m.-5:00 p.m.)

Stakeholder Presentations

Open Discussion:

—Framework for Risk-Informing Regulatory Requirements and DBAs

—Process and Criteria for Identifying and Prioritizing Candidate Regulations and DBAs

—Preliminary Results of Selection of Candidate Regulations and DBAs

—Trial Implementation of 10 CFR 50.44

—Trial Implementation of Special Treatment Requirements

Friday, February 25, 2000 (8:00 a.m.-Noon)

Continued Discussion (as needed)

Future Activities

Wrap-Up/Summary

Location: NRC Auditorium, 11545 Rockville Pike, Rockville, Maryland 20852.

Registration: No registration fee for workshop; however, notification of attendance is requested so that adequate space, materials, etc., for the workshop can be arranged. Notification of attendance should be directed to Alan Kuritzky, Office of Nuclear Regulatory Research, MS: T10-E50, U.S. Nuclear Regulatory Commission, Washington, D.C. 20555-0001, (301) 415-6255, email: ask1@nrc.gov.

FOR FURTHER INFORMATION CONTACT: Alan Kuritzky, Office of Nuclear Regulatory Research, MS: T10-E50, U.S. Nuclear Regulatory Commission, Washington, D.C. 20555-0001, (301) 415-6255, email: ask1@nrc.gov.

Dated this 7th day of February 2000.
For the Nuclear Regulatory Commission.
Mark A. Cunningham,
Probabilistic Risk Analysis Branch, Division of Risk Analysis and Applications, Office of Nuclear Regulatory Research.

[FR Doc. 00-3188 Filed 2-10-00; 8:45 am]

BILLING CODE 7590-01-P